DEPARTMENT OF DEFENSE

Office of the Secretary

[Transmittal No. 24-18]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-18, Policy Justification, and Sensitivity of Technology.

Dated: May 20, 2025.
Stephanie J. Bost,
Alternate OSD Federal Register Liaison Officer, Department of Defense.

BILLING CODE 6001-FR-P

BILLING CODE 6001-FR-C

Transmittal No. 24-18

Notice of Proposed Issuance of Letter of Offer Pursuant to Section 36(b)(1) of the Arms Export Control Act, as amended

(i) Prospective Purchaser: Government of Italy

(ii) Total Estimated Value:

Major Defense Equipment * | $63.2 million
Other | $27.4 million
TOTAL | $90.6 million

(iii) Description and Quantity or Quantities of Articles or Services under Consideration for Purchase:

Foreign Military Sales case IT-P-AKZ was below congressional notification threshold at $34.1 million ($24.1 million in MDE) and included twenty-eight (28) AIM-9X Sidewinder Block II+ Tactical Missiles; two (2) AIM-9X Block II+ Tactical Guidance Units; ten (10) AIM-9X Captive Air Training Missiles (CATM); and one (1) AIM-9X CATM Guidance Unit. The Government of Italy has requested the case be amended to include an additional twelve (12) AIM-9X Sidewinder Block II+ Tactical Missiles; two (2) AIM-9X Block II+ Tactical Guidance Units; four (4) AIM-9X CATM; and one (1) AIM-9X CATM Guidance Unit.

Foreign Military Sales case IT-P-ALA was below congressional notification threshold at $17.6 million ($9.7 million in MDE) and included ten (10) AIM-9X Sidewinder Block II+ Tactical Missiles; one (1) AIM-9X Block II+ Tactical Guidance Unit; six (6) AIM-9X CATM; and one (1) AIM-9X CATM Guidance Unit. The Government of Italy has requested the case be amended to include an additional sixteen (16) AIM-9X Sidewinder Block II+ Tactical Missiles; two (2) AIM-9X Block II+ Tactical Guidance Units; four (4) AIM-9X CATM; and one (1) AIM-9X CATM Guidance Unit.

These amendments will cause the cases to exceed the MDE notification threshold, and thus notification of the entire program is required. The above notification requirements are combined as follows:

Major Defense Equipment (MDE):

Sixty-six (66) AIM-9X Sidewinder Block II+ Tactical Missiles

Seven (7) AIM-9X Block II+ Tactical Guidance Units

Twenty-four (24) AIM-9X CATM

Four (4) AIM-9X CATM Guidance Units

Non-MDE:

Also included are active optical target detectors; containers; personnel training and training equipment; classified and unclassified publications and technical documents; warranties; United States (U.S.) Government engineering, technical, and logistics support services; and other related elements of logistics and program support.

(iv) Military Department: Navy (IT-P-AKZ, IT-P-ALA)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: March 15, 2024

* as defined in Section 47(6) of the Arms Export Control Act.

POLICY JUSTIFICATION

Italy—AIM-9X Sidewinder Missiles

The Government of Italy has requested to buy twenty-eight (28) AIM-9X Sidewinder Block II+ Tactical Missiles; four (4) AIM-9X Block II+ Tactical Guidance Units; eight (8) AIM-9X Captive Air Training Missiles (CATM); and two (2) AIM-9X CATM Guidance Units that will be added to previously implemented cases whose values were under the congressional notification threshold. The original Foreign Military Sales cases, valued at $34.1 million ($24.1 million in MDE) and $17.6 million ($9.7 million in MDE), respectively, included a total of thirty-eight (38) AIM-9X Sidewinder Block II+ Tactical Missiles; three (3) AIM-9X Block II+ Tactical Guidance Units; sixteen (16) AIM-9X CATM; and two (2) AIM-9X CATM Guidance Units. This notification is for a combined total of sixty-six (66) AIM-9X Sidewinder Block II+ Tactical Missiles; seven (7) AIM-9X Block II+ Tactical Guidance Units; twenty-four (24) AIM-9X CATM; and four (4) AIM-9X CATM Guidance Units. Also included are active optical target detectors; containers; personnel training and training equipment; classified and unclassified publications and technical documents; warranties; U.S. Government engineering, technical, and logistics support services; and other related elements of logistics and program support. The estimated total cost is $90.6 million.

This proposed sale will support the foreign policy goals and national security objectives of the U.S. by improving the security of a NATO Ally that is a force for political stability and economic progress in Europe.

The proposed sale will improve Italy's capability to meet current and future threats by providing training missiles and guidance units for Italy's F-35 fleet in support of NATO's defense mission. Italy will have no difficulty absorbing this equipment into its armed forces.

The proposed sale of this equipment and support will not alter the basic military balance in the region.

The principal contractor will be RTX Corporation, located in Arlington, VA. There are no known offset agreements proposed in connection with this potential sale.

Implementation of this proposed sale will not require the assignment of any additional U.S. Government or contractor representatives to Italy. However, periodic travel on a temporary basis will be required on an interim basis for training and technical assistance.

There will be no adverse impact on U.S. defense readiness as a result of this proposed sale.

Transmittal No. 24-18

Notice of Proposed Issuance of Letter of Offer Pursuant to Section 36(b)(1) of the Arms Export Control Act

Annex

Item No. vii

(vii) Sensitivity of Technology:

1. The AIM-9X Block II and Block II+ (Plus) Sidewinder Tactical Missile represents a substantial increase in performance over the AIM-9M and replaces the AIM-9X Block I Missile configuration. The missile includes a high off-boresight seeker, enhanced countermeasure rejection capability, low drag/high angle of attack airframe, and the ability to integrate the Helmet Mounted Cueing System. The most current AIM-9X Block II/II+ Operational Flight Software developed for all international partners, which is authorized for export by U.S. Government export policy, provides fifth-generation infrared missile capabilities such as Lock-On-After-Launch, Weapons Data Link, Surface Attack, and Surface Launch. No software source code or algorithms will be released.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Italy can provide substantially the same degree of protection for the sensitive technology being released as the U.S. Government. This sale is necessary in furtherance of the U.S. foreign policy and national security objectives outlined in the Policy Justification.

5. All defense articles and services listed in this transmittal have been authorized for release and export to Italy.

[FR Doc. 2025-09350 Filed 5-22-25; 8:45 am]

BILLING CODE 6001-FR-P